DEPARTMENT OF ENERGY

Federal Energy Regulatory Commission

Combined Notice of Filings; Filings Instituting Proceedings

Take notice that the Commission has received the following Natural Gas Pipeline Rate and Refund Report filings:

Docket Numbers: RP11-2382-000.

Applicants: Transcontinental Gas Pipe Line Company.

Description: Transcontinental Gas Pipe Line Company, LLC submits tariff filing per 154.204: FT, ESS, FDLS FOS—Credit Provisions from PA—Filing 2 to be effective 9/16/2011.

Filed Date: 08/16/2011.

Accession Number: 20110816-5060.

Comment Date: 5 p.m. Eastern Time on Monday, August 29, 2011.

Docket Numbers: RP11-2383-000.

Applicants: Northern Natural Gas Company.

Description: Northern Natural Gas files a Petition for a Limited Waiver of Northern's FERC Gas Tariff to resolve a prior period imbalance with the high Monthly Index Price for Tenaska Marketing Ventures.

Filed Date: 08/16/2011.

Accession Number: 20110816-5061.

Comment Date: 5 p.m. Eastern Time on Monday, August 29, 2011.

Docket Numbers: RP11-2387-000.

Applicants: Sabine Pipe Line LLC.

Description: Sabine Pipe Line LLC submits tariff filing per 154.402: Sabine Pipe Line LLC 2011 ACA Filing to be effective 10/1/2011.

Filed Date: 08/17/2011.

Accession Number: 20110817-5024.

Comment Date: 5 p.m. Eastern Time on Monday, August 29, 2011.

Docket Numbers: RP11-2388-000.

Applicants: Texas Eastern Transmission, LP.

Description: Texas Eastern Transmission, LP submits tariff filing per 154.204: South Jersey 8-13-2011 Negotiated Rate to be effective 8/13/2011.

Filed Date: 08/17/2011.

Accession Number: 20110817-5025.

Comment Date: 5 p.m. Eastern Time on Monday, August 29, 2011.

Docket Numbers: RP11-2389-000.

Applicants: Kinder Morgan Interstate Gas Transmission LLC.

Description: Kinder Morgan Interstate Gas Transmission LLC submits tariff filing per 154.204: ACA 2011 to be effective 10/1/2011.

Filed Date: 08/17/2011.

Accession Number: 20110817-5048.

Comment Date: 5 p.m. Eastern Time on Monday, August 29, 2011.

Docket Numbers: RP11-2390-000.

Applicants: TransColorado Gas Transmission Company LLC.

Description: TransColorado Gas Transmission Company LLC submits tariff filing per 154.204: ACA 2011 to be effective 10/1/2011.

Filed Date: 08/17/2011.

Accession Number: 20110817-5051.

Comment Date: 5 p.m. Eastern Time on Monday, August 29, 2011.

Docket Numbers: RP11-2391-000.

Applicants: Gulf Crossing Pipeline Company LLC.

Description: Gulf Crossing Pipeline Company LLC submits tariff filing per 154.402: 2011 ACA Filing— Resubmission to be effective 10/1/2011.

Filed Date: 08/17/2011.

Accession Number: 20110817-5061.

Comment Date: 5 p.m. Eastern Time on Monday, August 29, 2011.

Docket Numbers: RP11-2392-000.

Applicants: Gulf South Pipeline Company, LP.

Description: Gulf South Pipeline Company, LP submits tariff filing per 154.402: 2011 ACA Filing— Resubmission to be effective 10/1/201.

Filed Date: 08/17/2011.

Accession Number: 20110817-5063.

Comment Date: 5 p.m. Eastern Time on Monday, August 29, 2011.

Docket Numbers: RP11-2393-000.

Applicants: Texas Gas Transmission, LLC.

Description: Texas Gas Transmission, LLC submits tariff filing per 154.402: 2011 ACA Filing—Resubmission to be effective 10/1/2011.

Filed Date: 08/17/2011.

Accession Number: 20110817-5066.

Comment Date: 5 p.m. Eastern Time on Monday, August 29, 2011.

Docket Numbers: RP11-2394-000.

Applicants: Paiute Pipeline Company.

Description: Paiute Pipeline Company submits tariff filing per 154.402: Annual Charge Adjustment Filing to be effective 10/1/2011.

Filed Date: 08/17/2011.

Accession Number: 20110817-5112.

Comment Date: 5 p.m. Eastern Time on Monday, August 29, 2011.

Docket Numbers: RP11-2395-000.

Applicants: Southwest Gas Transmission Company, A Limited Partnership.

Description: Southwest Gas Transmission Company, A Limited Partnership submits tariff filing per 154.402: Annual Charge Adjustment to be effective 10/1/2011.

Filed Date: 08/17/2011.

Accession Number: 20110817-5117.

Comment Date: 5 p.m. Eastern Time on Monday, August 29, 2011.

Docket Numbers: CP11-534-000.

Applicants: Abbreviated Application of PostRock KPC Pipeline, LLC for authorization to abandon leased capacity.

Filed Date: 08/15/2011.

Accession Number: 20110815-5091.

Comment Date: 5 p.m. Eastern Time on Friday, August 26, 2011.

Docket Numbers: CP11-535-000.

Applicants: Enogex LLC's Petition for order authorizing abandonment of pipeline capacity lease and limited jurisdiction certificate and request for expedited action.

Filed Date: 08/15/2011.

Accession Number: 20110815-5177.

Comment Date: 5 p.m. Eastern Time on Friday, August 26, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: August 18, 2011.
Nathaniel J. Davis, Sr.,
Deputy Secretary.

[FR Doc. 2011-21997 Filed 8-26-11; 8:45 am]

BILLING CODE 6717-01-P